DEPARTMENT OF COMMERCE

National Oceanic and Atmospheric Administration

RIN 0648-XF734

Marine Mammals; File No. 20626

AGENCY: National Marine Fisheries Service (NMFS), National Oceanic and Atmospheric Administration (NOAA), Commerce.

ACTION: Notice; receipt of application.

SUMMARY: Notice is hereby given that James H.W. Hain, Ph.D., Box 721, Woods Hole, MA 02543, has applied in due form for a permit to conduct research on North Atlantic right (Eubalaena glacialis) and humpback (Megaptera novaeangliae) whales.

DATES: Written, telefaxed, or email comments must be received on or before December 6, 2017.

ADDRESSES: The application and related documents are available for review by selecting “Records Open for Public Comment” from the “Features” box on the Applications and Permits for Protected Species (APPS) home page, https://apps.nmfs.noaa.gov, and then selecting File No. 20626 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 20626 in the subject line of the email comment.

Those individuals requesting a public hearing should submit a written request to the Chief, Permits and Conservation Division at the address listed above. The request should set forth the specific reasons why a hearing on this application would be appropriate.

FOR FURTHER INFORMATION CONTACT: Carrie Hubard or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a five-year permit to conduct aerial and vessel surveys for North Atlantic right whales (NARW) off South Carolina, Georgia, and Florida. The primary study area is in Florida from St. Augustine to Canaveral National Seashore. Research would mainly occur in coastal waters. Survey platforms include boats, airplanes, aerostats, blimps, and unmanned aircraft systems. Up to 160 NARW could be approached annually (100 via aerial surveys, 60 via vessel surveys) for behavioral observations, photo-identification, counts, and passive acoustic recordings. Up to 10 humpback whales may be encountered annually and would be studied in the same manner as NARW. Bottlenose (Tursiops truncatus) and Atlantic spotted (Stenella frontalis) dolphins and minke (Balaenoptera acutorostrata) and fin (B. physalus) whales may be incidentally harassed. The objectives of the research are to: (1) Improve knowledge of NARW habitat utilization; (2) help monitor annual reproductive success; (3) develop and implement programs for population monitoring in the portion of the NARW critical habitat between St. Augustine, Florida and Canaveral National Seashore; (4) assist in both pre- and post-tag observations (e.g., documentation of post-tag healing and tag retention) of whales tagged by other permit holders; (5) contribute to the NARW photo-identification catalog; and (6) contribute data on the co-occurrence of NARW and human activities.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 31, 2017.
Julia Harrison,
Chief, Permits and Conservation Division, Office of Protected Resources, National Marine Fisheries Service.

[FR Doc. 2017-24029 Filed 11-3-17; 8:45 am]

BILLING CODE 3510-22-P